DEPARTMENT OF HEALTH AND HUMAN SERVICES

National Institutes of Health

National Cancer Institute; Amended Notice of Meeting

Notice is hereby given of a change in the meeting of the National Cancer Institute Special Emphasis Panel, July 9, 2019, 1:00 p.m. to 5:00 p.m., National Cancer Institute Shady Grove, 9609 Medical Center Drive, Rockville, MD 20850, which was published in the Federal Register on May 13, 2019, 84 FR 20900.

The meeting notice is amended to change the SRO from Dr. Robert Bird to Dr. Caron Lyman. The meeting name was also changed from UE4/U24 Review to UE5/U24 Review. The meeting is closed to the public.

Dated: July 1, 2019.
Melanie J. Pantoja,
Program Analyst, Office of Federal Advisory Committee Policy.

[FR Doc. 2019-14382 Filed 7-5-19; 8:45 am]

BILLING CODE 4140-01-P